ENVIRONMENTAL PROTECTION AGENCY

[FRL-7664-6]

Meetings of the Ozone Transport Commission and Mid-Atlantic/Northeast Visibility Union

AGENCY: Environmental Protection Agency.

ACTION: Notice of meeting.

SUMMARY: The United States Environmental Protection Agency is announcing the 2004 Annual Meetings of the Ozone Transport Commission (OTC) and the Mid/Atlantic/Northeast Visibility Union (MANE-VU). The OTC meeting will explore options available for reducing ground-level ozone precursors in a multi-pollutant context, particularly from the transportation sector. The MANE-VU meeting will provide an update of states' progress towards developing state implementation plans (SIPs) for visibility, particularly the determination of sources contributing toward visibility degradation in Class I areas and the establishment of a baseline for natural visibility levels.

DATES: The OTC meeting will be held on June 8, 2004, and June 9, 2004, starting at 1 p.m. (e.d.t.); the MANE-VU meeting will be held on June 10, 2004, starting at 9 a.m. (e.d.t.).

ADDRESSES: The Crystal Point Hotel, 146 Bodman Place, Red Bank, New Jersey 07701; (732) 747-2500.

FOR FURTHER INFORMATION CONTACT: Judith M. Katz, U.S. Environmental Protection Agency, Region III, 1650 Arch Street, Philadelphia, PA 19103; (215) 814-2100.

For Documents and Press Inquiries Contact: Ozone Transport Commission, 444 North Capitol Street, NW., Suite 638, Washington, DC 20001; (202) 508-3840; e-mail: otcair.org; Web site: http://www.otcair.org/.

SUPPLEMENTARY INFORMATION: The Clean Air Act Amendments of 1990 contain at section 184 provisions for the “Control of Interstate Ozone Air Pollution.” Section 184(a) establishes an “Ozone Transport Region” (OTR) comprised of the states of Connecticut, Delaware, Maine, Maryland, Massachusetts, New Hampshire, New Jersey, New York, Pennsylvania, Rhode Island, Vermont, parts of Virginia and the District of Columbia. The purpose of the Ozone Transport Commission is to deal with ground level ozone formation, transport, and control within the OTR. The MANE-VU is comprised of the states of Connecticut, Delaware, Maine, Maryland, Massachusetts, New Hampshire, New Jersey, New York, Pennsylvania, Rhode Island, Vermont, the District of Columbia, and the Tribes within those states. The purpose of MANE-VU is to address Regional Haze and visibility goals.

The purpose of this notice is to announce that the OTC and MANE-VU will meet on June 8 through June 10, 2004. The meeting will be held at the address noted earlier in this notice.

Section 176A(b)(2) of the Clean Air Act Amendments of 1990 specifies that the meetings of the Ozone Transport Commission and MANE-VU are not subject to the provisions of the Federal Advisory Committee Act. This meeting will be open to the public as space permits.

Type of Meeting: Open.

Agenda: Copies of the final agenda will be available from the OTC office (202) 508-3840 (by e-mail: otcair.org or via our Web site at http://www.otcair.org/) by Friday, May 28, 2004. The purpose of these meetings is to discuss ways in which OTC and MANE-VU states and Tribes can meet their statutory and regulatory responsibilities under the Clean Air Act. The OTC meeting will explore options available for reducing ground-level ozone precursors in a multi-pollutant context, particularly from the transportation sector. The MANE-VU meeting will provide an update of states' progress towards developing state implementation plans (SIPs) for visibility, particularly the determination of sources contributing toward visibility degradation in Class I areas and the establishment of a baseline for natural visibility levels. These meetings are not subject to the provisions of the Federal Advisory Committee Act, Public Law 92-463, as amended.

Dated: May 13, 2004.
Richard J. Kampf,
Acting Regional Administrator, Region III.

[FR Doc. 04-11436 Filed 5-19-04; 8:45 am]

BILLING CODE 6560-50-P